INTERNATIONAL TRADE COMMISSION

[Investigation No. 731-TA-472 (Fourth Review)]

Silicon Metal From China

Determination

On the basis of the record ¹ developed in the subject five-year review, the United States International Trade Commission (“Commission”) determines, pursuant to the Tariff Act of 1930 (“the Act”), that revocation of the antidumping duty order on silicon metal from China would be likely to lead to continuation or recurrence of material injury to an industry in the United States within a reasonably foreseeable time.²

¹ The record is defined in sec. 207.2(f) of the Commission's Rules of Practice and Procedure (19 CFR 207.2(f)).

² Commissioner Jason Kearns not participating.

Background

The Commission, pursuant to section 751(c) of the Act (19 U.S.C. 1675(c)), instituted this review on March 1, 2017 (82 FR 12234) and determined on June 5, 2017 that it would conduct a full review (82 FR 27525, June 15, 2017). Notice of the scheduling of the Commission's review and of a public hearing to be held in connection therewith was given by posting copies of the notice in the Office of the Secretary, U.S. International Trade Commission, Washington, DC, and by publishing the notice in the Federal Register on November 24, 2017 (82 FR 55858). The hearing was held in Washington, DC, on March 20, 2018, and all persons who requested the opportunity were permitted to appear in person or by counsel.

The Commission made this determination pursuant to section 751(c) of the Act (19 U.S.C. 1675(c)). It completed and filed its determination in this review on May 15, 2018. The views of the Commission are contained in USITC Publication 4783 (May 2018), entitled Silicon Metal from China: Investigation No. 731-TA-472 (Fourth Review).

By order of the Commission.
Issued: May 15, 2018.
Lisa Barton,
Secretary to the Commission.

[FR Doc. 2018-10718 Filed 5-18-18; 8:45 am]

BILLING CODE 7020-02-P